NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: November 4, 2008, 8 a.m. to 5 p.m. November 5, 2008, 8 a.m. to 3 p.m.

Place: National Science Foundation, 4201 Wilson Boulevard, Stafford II-595.

Type of Meeting: Open.

Contact Person: Sue LaFratta, Office of Polar Programs (OPP). National Science Foundation, 4201 Wilson Boulevard, Arlington, VA 22230. (703) 292-8030.

Minutes: May be obtained from the contact person listed above.

Purpose of Meeting: To advise NSF on the impact of its policies, programs, and activities on the polar research community, to provide advice to the Director of OPP on issues related to long-range planning.

Agenda: Staff presentations and discussion on opportunities and challenges for polar research, education and infrastructure; planning for Arctic and Antarctic Committees of Visitors; discussion on renewable and alternative energy technologies; and discussion of NSF's IPY activity and how it relates to IPY activity worldwide.

Dated: October 6, 2008.
Susanne Bolton,
Committee Management Officer.

[FR Doc. E8-24068 Filed 10-8-08; 8:45 am]

BILLING CODE 7555-01-P